OFFICE OF PERSONNEL MANAGEMENT

5 CFR Part 532

RIN 3206-AN06

Prevailing Rate Systems; Redefinition of the Fort Wayne-Marion, IN, and Detroit, MI, Appropriated Fund Federal Wage System Wage Areas

AGENCY: U.S. Office of Personnel Management.

ACTION: Proposed rule with request for comments.

SUMMARY: The U.S. Office of Personnel Management (OPM) is issuing a proposed rule that would redefine the geographic boundaries of the Fort Wayne-Marion, IN, and Detroit, MI, appropriated fund Federal Wage System (FWS) wage areas. The proposed rule would redefine Fulton County, OH, from the Fort Wayne-Marion wage area to the Detroit wage area. This change is based on a recent consensus recommendation of the Federal Prevailing Rate Advisory Committee (FPRAC) to best match Fulton County to a nearby FWS survey area. In addition, this proposed rule adds La Crosse County, WI, to the survey area of the Southwestern Wisconsin wage area, which OPM inadvertently omitted in a final rule published in 2013.

DATES: We must receive comments on or before August 18, 2014.

ADDRESSES: You may submit comments, identified by “RIN 3206-AN06,” using any of the following methods:

Federal eRulemaking Portal: http://www.regulations.gov. Follow the instructions for submitting comments.

Mail: Brenda L. Roberts, Acting Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule that would redefine the geographic boundaries of the Fort Wayne-Marion, IN, and Detroit, MI, appropriated fund FWS wage areas. The proposed rule would redefine Fulton County, OH, from the Fort Wayne-Marion wage area to the Detroit wage area.

OPM considers the following regulatory criteria under 5 CFR 532.211 when defining FWS wage area boundaries:

(i) Distance, transportation facilities, and geographic features;

(ii) Commuting patterns; and

(iii) Similarities in overall population, employment, and the kinds and sizes of private industrial establishments.

Fulton, Lucas, Wood Counties, OH, comprise the Toledo, OH Metropolitan Statistical Area (MSA). The Toledo MSA is split between the Fort Wayne-Marion and Detroit wage areas. Fulton County is part of the area of application of the Fort Wayne-Marion wage area, and Lucas and Wood Counties are part of the area of application of the Detroit wage area.

Based on an analysis of the regulatory criteria for Lucas County, the core county in the Toledo MSA, the entire Toledo MSA would be defined to the Detroit wage area. When measuring to cities and host installations, the distance criterion favors the Detroit wage area more than the Fort Wayne-Marion wage area. The commuting patterns criterion does not favor one wage area more than another. The difference between the resident workforce commuting to work in the Fort Wayne-Marion and Detroit survey areas is insignificant; however, marginally more people commute into the Detroit survey area (1.04 percent) than into the Fort Wayne-Marion survey area (0.04 percent). The overall population and employment and the kinds and sizes of private industrial establishments criterion favors the Detroit wage area more than the Fort Wayne-Marion wage area.

Based on this analysis, we believe Lucas County is appropriately defined to the Detroit wage area. OPM regulations at 5 CFR 532.211 permit splitting MSAs only in very unusual circumstances. There appear to be no unusual circumstances that would permit splitting the Toledo MSA. To comply with OPM regulations not to split MSAs, Fulton County would be redefined to the Detroit wage area. The remaining county in the Toledo MSA, Wood County, is already defined to the Detroit wage area. There are currently no FWS employees working in Fulton County.

FPRAC, the national labor-management committee responsible for advising OPM on matters concerning the pay of FWS employees, recommended this change by consensus. This change would be effective on the first day of the first applicable pay period beginning on or after 30 days following publication of the final regulations. FPRAC recommended no other changes in the geographic definitions of the Fort Wayne-Marion and Detroit wage areas.

CFR Correction

In a final rule published in the Federal Register on May 21, 2013 (78 FR 29611), OPM inadvertently omitted La Crosse County, WI, from the survey area of the Southwestern Wisconsin FWS wage area. La Crosse County should have been listed immediately following Eau Claire County.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Katherine Archuleta,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Fort Wayne-Marion, IN, Detroit, MI, and Southwestern Wisconsin wage areas to read as follows:

* * * * *

INDIANA
* * * * *
Fort Wayne-Marion
Survey Area
Indiana:
Adams
Allen
DeKalb
Grant
Huntington
Wells
Area of Application. Survey area plus:
Indiana:
Blackford
Case
Elkhart
Fulton
Jay
Kosciusko
Lagrange
Marshall
Miami
Noble
St. Joseph
Steuben
Wabash
White
Whitley
Ohio:
Allen
Defiance
Henry
Mercer
Paulding
Putnam
Van Wert
Williams
* * * * *
MICHIGAN
* * * * *
Detroit
Survey Area
Michigan:
Lapeer
Livingston
Macomb
Oakland
St. Clair
Wayne
Area of Application. Survey area plus:
Michigan:
Arenac
Bay
Clare
Clinton
Eaton
Genesee
Gladwin
Gratiot
Huron
Ingham
Isabella
Lenawee
Midland
Monroe
Saginaw
Sanilac
Shiawassee
Tuscola
Washtenaw
Ohio:
Fulton
Lucas
Wood
* * * * *
WISCONSIN
Southwestern Wisconsin
Survey Area
Wisconsin:
Chippewa
Eau Claire
La Crosse
Monroe
Trempealeau
Area of Application. Survey area plus:
Minnesota:
Fillmore
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood
* * * * *

[FR Doc. 2014-16972 Filed 7-17-14; 8:45 am]

BILLING CODE 6325-39-P